DEPARTMENT OF THE INTERIOR

Office of Surface Mining Reclamation and Enforcement

30 CFR Parts 700, 701, 773, 774, 777, 779, 780, 783, 784, 785, 800, 816, 817, 824, and 827

[Docket ID: OSM-2010-0018; OSM-2010-0021; OSM-2015-0002 S1D1 SS08011000SX064A000156S180110; S2D2SS08011000SX064A00015X501520]

RIN 1029-AC63

Stream Protection Rule

AGENCY: Office of Surface Mining Reclamation and Enforcement, Department of the Interior.

ACTION: Notice of public hearings.

SUMMARY: We, the Office of Surface Mining Reclamation and Enforcement (OSMRE), are announcing the schedule for public hearings on the proposed Stream Protection Rule and the accompanying Draft Environmental Impact Statement (DEIS).

DATES: We will be holding public hearings on the proposed rule and DEIS on September 1, 3, 10, 15, and 17, 2015 at the locations listed in the SUPPLEMENTARY INFORMATION section of this notice.

ADDRESSES: See the SUPPLEMENTARY INFORMATION section of this notice for the addresses at which we will hold the public hearings on the proposed rule and DEIS.

FOR FURTHER INFORMATION CONTACT:

Jessica Villanueva, 1999 Broadway, Suite 3320, Denver, Colorado 80201, Phone: (303) 293-5057

Robert Evans, 2675 Regency Road, Lexington, Kentucky 40503, Phone: (859) 260-3902

Len Meier, 501 Belle Street, Room 216, Alton, Illinois 62002, Phone: (618) 463-6463 x 5109

Ben Owens, 3 Parkway Center, Pittsburgh, PA 152220, Phone: (412) 937-2827

Ian Dye, Jr., 1947 Neeley Road, Compartment 116, Suite 220, Big Stone Gap, VA 24219, Phone: (276) 523-0022 x 16

Roger Calhoun, 1027 Virginia Street East, Charleston, West Virginia 25301, Phone: (304) 347-7158

SUPPLEMENTARY INFORMATION: The proposed rule, announced on July 16, 2015 and published on July 27, 2015 (80 FR 44436-44698), would modernize rules that are 32 years old in order to better protect people, water quality, and the environment from the adverse effects of coal mining. We will hold public hearings on the proposed Stream Protection Rule and the accompanying DEIS at the following locations on the listed dates:

Tuesday, September 1, 2015: Jefferson County Fairgrounds Event Center, 15200 W. 6th Ave., Golden, CO 80401.

Thursday, September 3, 2015: Lexington Convention Center, 430 W. Vine St., Lexington, KY 40507.

Thursday, September 10, 2015: St. Charles Convention Center, 1 Convention Center Plaza, St. Charles, MO 63303.

Thursday, September 10, 2015: DoubleTree by Hilton Hotel Pittsburgh, 500 Mansfield Ave., Pittsburgh, PA 15205.

Tuesday, September 15, 2015: Mountain Empire Community College, 3441 Mt. Empire Rd., Big Stone Gap, VA 24219.

Thursday, September 17, 2015: Charleston Civic Center, 200 Civic Center Dr., Charleston, WV 25301

All hearings are scheduled to begin at 5 p.m. and end at 9 p.m. We will provide opportunities for interested parties to deliver or write comments onsite at each public hearing. We will also provide an opportunity for participants to speak with a court reporter who will transcribe their verbal comments for the written record. Additionally, the public will be able to speak in a public hearing format. Those speaking in the public hearing format must register to do so at the hearing, and will be called on a first-come, first-served basis as time allows. Verbal comments will be limited to two minutes in order to allow as many people to speak as possible. People are encouraged to provide their complete detailed comments in writing.

The primary purpose of the hearings is to obtain input on the proposed rule and DEIS. Therefore, we encourage you to limit your testimony to the merits of the provisions of the proposed rule and DEIS.

At the hearing, a court reporter will record and prepare a verbatim transcription of all comments presented. This written record will be made part of the docket for the DEIS and/or proposed rule. If you have a written copy of your comments, we encourage you to provide a copy to the moderator to assist the court reporter in preparing the written record.

If you are a disabled individual who needs reasonable accommodations to attend a public hearing, please contact the person listed under FOR FURTHER INFORMATION CONTACT.

Dated: August 24, 2015.
Harry J. Payne,
Acting Assistant Director, Program Support.

[FR Doc. 2015-21412 Filed 8-27-15; 8:45 am]

BILLING CODE 4310-05-P